DEPARTMENT OF ENERGY

Federal Energy Regulatory Commission

[Docket Nos. CP14-119-000; CP14-120-000; CP14-122-000; PF12-8-000]

Notice of Applications: Trunkline Gas Company, LLC; Trunkline LNG Export, LLC; Trunkline LNG Company, LLC; Trunkline LNG Company, LLC

Take notice that on March 25, 2014, Trunkline Gas Company, LLC (Trunkline Gas), 1300 Main Street, Houston, Texas 77002, filed in Docket No. CP14-119-000 an application pursuant to sections 7(b) and 7(c) of the Natural Gas Act (NGA) for authorization to: (i) Construct, install, and operate approximately 17.89 miles of pipeline; 119,075 horsepower (HP) of compression; various new meter stations; and appurtenances; (ii) remediate certain existing pipeline; (iii) modify station piping at four compressor stations and modify various meter stations; and (iv) abandon one 3,000 HP compressor unit, all within the States of Arkansas, Mississippi, and Louisiana (Pipeline Modification Project). Trunkline Gas states that the Pipeline Modification Project will provide for 3,100,000 dekatherms per day of firm transportation service. Trunkline Gas requests a pre-determination of rolled-in rate treatment for the estimated $579.2 million cost of the Pipeline Modification Project.

Additionally, Trunkline LNG Export, LLC (Trunkline Export) and Trunkline LNG Company, LLC (Trunkline LNG) (collectively, the Applicants), 1300 Main Street, Houston, Texas 77002, jointly filed in Docket No. CP14-120-000 an application under section 3 of the NGA for authorization to: (i) Site, construct, and operate new liquefaction facilities adjacent to Trunkline LNG's existing liquefied natural gas (LNG) terminal located in Calcasieu Parish, Louisiana (Terminal); and (ii) construct and operate certain facility modifications at the Terminal (Liquefaction Project). The Applicants state that the Liquefaction Project includes three liquefaction trains with a design production capacity of 16.45 million metric tons of LNG per annum.

Finally, Trunkline LNG filed an application in Docket No. CP14-122-000 pursuant to sections 3 and 7(b) of the NGA for authorization to: (i) Abandon certain Terminal facilities previously certificated under NGA section 7; (ii) abandon services provided under Trunkline LNG's FERC Gas Tariff and its certificates of public convenience and necessity; (iii) cancel Trunkline LNG's FERC Gas Tariff, including all rate schedules therein; and (iv) convert such certificated facilities and operation under NGA section 3, so that the entirety of Trunkline LNG's facilities and operations are authorized solely under NGA section 3.

All of the applications are on file with the Commission and open to public inspection. The filing is available for review at the Commission in the Public Reference Room or may be viewed on the Commission's Web site web at http://www.ferc.gov using the “eLibrary” link. Enter the docket number excluding the last three digits in the docket number field to access the document. For assistance, contact FERC at FERCOnlineSupport@ferc.gov or call toll-free, (886) 208-3676 or TYY, (202) 502-8659.

Any questions concerning these applications may be directed to Stephen Veatch, Senior Director of Certificates, Trunkline Gas Company, LLC; Trunkline LNG Export, LLC; Trunkline LNG Company, LLC, 1300 Main Street, Houston, Texas 77002, by telephone at (713) 989-2024, by facsimile at (713) 989-1205, or by email at stephen.veatch@energytransfer.com.

On April 6, 2012, the Commission staff granted Trunkline Gas, Trunkline Export, and Trunkline LNG's request to utilize the Pre-Filing Process and assigned Docket No. PF12-8-000 to staff activities involved in the above referenced projects. Now, as of the filing of the March 25, 2014 application, the Pre-Filing Process for this project has ended. From this time forward, this proceeding will be conducted in Docket Nos. CP14-119-000, CP14-120-000, and CP14-122-000, as noted in the caption of this Notice.

Pursuant to Section 157.9 of the Commission's rules, 18 CFR § 157.9, within 90 days of this Notice, the Commission staff will issue a Notice of Schedule for Environmental Review. If a Notice of Schedule for Environmental Review is issued, it will indicate, among other milestones, the anticipated date for the Commission staff's issuance of the final environmental impact statement (FEIS) for this proposal. The issuance of a Notice of Schedule for Environmental Review will serve to notify federal and state agencies of the timing for the completion of all necessary reviews, and the subsequent need to complete all federal authorizations within 90 days of the date of issuance of the Commission staff's FEIS.

There are two ways to become involved in the Commission's review of this project. First, any person wishing to obtain legal status by becoming a party to the proceedings for this project should, on or before the comment date stated below file with the Federal Energy Regulatory Commission, 888 First Street NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit seven copies of filings made in the proceeding with the Commission and must mail a copy to the applicant and to every other party. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commentors will be placed on the Commission's environmental mailing list, will receive copies of the environmental documents, and will be notified of meetings associated with the Commission's environmental review process. Environmental commentors will not be required to serve copies of filed documents on all other parties. However, the non-party commentors will not receive copies of all documents filed by other parties or issued by the Commission (except for the mailing of environmental documents issued by the Commission) and will not have the right to seek court review of the Commission's final order.

The Commission strongly encourages electronic filings of comments, protests and interventions in lieu of paper using the “eFiling” link at http://www.ferc.gov. Persons unable to file electronically should submit an original and 7 copies of the protest or intervention to the Federal Energy Regulatory Commission, 888 First Street NE., Washington, DC 20426.

Comment Date: 5:00 p.m. Eastern Time on April 24, 2014.

Dated: April 3, 2014.
Kimberly D. Bose,
Secretary.

[FR Doc. 2014-08036 Filed 4-9-14; 8:45 am]

BILLING CODE 6717-01-P